FEDERAL AVIATION ADMINISTRATION

Las Vegas Metroplex; Finding of No Significant Impact/Record of Decision

AGENCY: Federal Aviation Administration, Department of Transportation.

ACTION: Notice of availability of Finding of No Significant Impact/Record of Decision.

SUMMARY: The Federal Aviation Administration (FAA) is issuing this notice to advise the public that it has published a Finding of No Significant/Record of Decision for the Las Vegas Metroplex Project.

FOR FURTHER INFORMATION CONTACT: Ryan Weller, Federal Aviation Administration, Operations Support Group, Western Service Center, 2200 S 216th St., Des Moines, WA 98198-6547, or email address: 9-las-metroplex-ea@faa.gov.

SUPPLEMENTARY INFORMATION: The FAA prepared a Final Environmental Assessment (EA), dated June 8, 2020, to assess the potential environmental impacts of the Las Vegas Metroplex Project in compliance with the National Environmental Policy Act of 1969, 42 U.S.C. 4321 et seq. The FAA accepted public comment on the Final EA from June 8 to June 22, 2020. This notice announces that based on the information and analysis contained in the Final EA, and after reviewing comments received on the Final EA, the FAA is issuing a Finding of No Significant Impact and Record of Decision (FONSI/ROD) for the Las Vegas Metroplex Project. The FONSI/ROD documents the FAA's determination that the Las Vegas Metroplex Project would not significantly affect the quality of the human environment and that an Environmental Impact Statement (EIS) is therefore not necessary. The FONSI/ROD also documents the FAA's decision to proceed with the preferred alternative detailed in the Final EA. The Las Vegas Metroplex Project will improve the efficiency of the national airspace system in the Las Vegas area by optimizing aircraft arrival and departure procedures at McCarran International Airport, Henderson Executive Airport, and North Las Vegas Airport.

Availability: The FONSI/ROD is available at:

(1) Online: https://www.faa.gov/air_traffic/community_involvement/las/ and http://www.metroplexenvironmental.com/las_metroplex/las_docs.html

(2) Electronic version of the FONSI/ROD is available at 27 libraries in the Las Vegas Metroplex General Study Area. A complete list of libraries with electronic copies of the FONSI/ROD is available online at: http://www.metroplexenvironmental.com/las_metroplex/las_docs.html

Issued in Des Moines, Washington, on July 9, 2020.
B.G. Chew,
(Acting) Manager, Operations Support Group, Air Traffic Organization.

[FR Doc. 2020-15415 Filed 7-15-20; 8:45 am]

BILLING CODE P